NATIONAL SCIENCE FOUNDATION

Proposal Review Panel for Materials Research; Notice of Meeting

In accordance with the Federal Advisory Committee Act (Pub., L. 92-463 as amended), the National Science Foundation announces the following meeting:

Name: Proposal Review Panel for Materials Research (DMR) #1203—Site visit review of the Los Alamos arm of the National High Magnetic Field Laboratory (NHMFL) at Los Alamos, NM.

Dates & Times

June 3, 2015; 7:00 p.m.-8:45 p.m.

June 4, 2015; 7:30 a.m.-8:30 p.m.

June 5, 2015; 7:30 a.m.-5:00 p.m.

Place: Los Alamos National Laboratory, Los Alamos, NM.

Type of Meeting: Part open.

Contact Person: Dr. Thomas Rieker, Program Director, Division of Materials Research, Room 1065, National Science Foundation, 4201 Wilson Boulevard, Arlington, VA 22230, Telephone (703) 292-4914.

Purpose of Meeting: To provide advice and recommendations concerning further support of the NHMFL.

Agenda

Wednesday, June 3, 2015

7:00 p.m.-8:45 p.m. Closed—Briefing of panel

Thursday, June 4, 2015

7:30 a.m.-4:15 p.m. Open—Review of the NHMFL

4:15 p.m.-6:00 p.m. Closed—Executive Session

6:00 p.m.-8:30 p.m. Open—Dinner

Friday, June 5, 2015

7:30 a.m.-9:00 a.m. Open—Review of the NHMFL

9:00 a.m.-5:00 p.m. Closed—Executive Session, Draft and Review Report

Reason for Closing: The work being reviewed may include information of a proprietary or confidential nature, including technical information; financial data, such as salaries and personal information concerning individuals associated with the MRSEC. These matters are exempt under 5 U.S.C. 552 b(c), (4) and (6) of the Government in the Sunshine Act.

Dated: April 7, 2015.
Suzanne Plimpton,
Acting, Committee Management Officer.

[FR Doc. 2015-08273 Filed 4-9-15; 8:45 am]

BILLING CODE 7555-01-P